DEPARTMENT OF ENERGY

Federal Energy Regulatory Commission

[Docket No. CP06-468-000]

Columbia Gas Transmission Corporation; Notice of Request Under Blanket Authorization

October 13, 2006.

Take notice that on September 28, 2006, Columbia Gas Transmission Corporation (Columbia), 1700 MacCorkle Avenue, SE., Charleston, West Virginia 25314, filed in Docket No. CP06-468-000, a prior notice request pursuant to sections 157.205, 157.208(b) and 157.216(b) of the Federal Energy Regulatory Commission's regulations under the Natural Gas Act, and Columbia's blanket certificate issued in Docket No. CP83-76-000 to replace 5.87 miles of its 14-inch Line 1278 with like-size pipeline, located in Northampton, Lehigh and Bucks Counties, Pennsylvania. Columbia states that the replacement project is due to age and condition of the existing pipeline and it estimates the project cost at approximately $12,475,000, all as more fully set forth in the application, which is on file with the Commission and open to public inspection. The filing may also be viewed on the Web at http://www.ferc.gov using the “eLibrary” link. Enter the docket number excluding the last three digits in the docket number field to access the document. For assistance, contact FERC at FERCOnlineSupport@gerc.gov or call toll-free, (886) 208-3676 or TTY, (202) 502-8659.

Any questions regarding the application should be directed to Fredric J. George, Lead Counsel, Columbia Gas Transmission Corporation, P.O. Box 1273, Charleston, West Virginia 22030-0146 at (304) 357-2359, Fax (304) 357-3206.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Magalie R. Salas,
Secretary.

[FR Doc. E6-17470 Filed 10-18-06; 8:45 am]

BILLING CODE 6717-01-P